Title 3—

The President

Memorandum of September 28, 2007

Assignment of Specified Reporting and Determination Functions Relating to Afghanistan, Pakistan, Saudi Arabia, and Certain Education Abroad

Memorandum for the Secretary of State[,] the Secretary of Defense[, and] the Director of National Intelligence

By virtue of the authority vested in me as President by the Constitution and the laws of the United States, including section 301 of title 3, United States Code, I hereby assign to the Secretary of State the functions of the President under sections 2041(d)(3), 2042(c)(1), 2042(d), and 2043(c)(1) of the Implementing Recommendations of the 9/11 Commission Act of 2007 (Public Law 110-53)(the “9/11 Act”) and section 7114(b)(6) of the Intelligence Reform and Terrorism Prevention Act of 2004 (Public Law 108-458), as amended.

The Secretary of State shall consult with:

(1) the Secretary of Defense in the performance of the functions in section 2041(d)(3) of the 9/11 Act; and

(2) the Secretary of Defense and the Director of National Intelligence in the performance of the functions in section 2043(c)(1) of the 9/11 Act.

The Secretary of State is authorized and directed to publish this memorandum in the Federal Register.

THE WHITE HOUSE,

Washington, September 28, 2007.

[FR Doc. 07-4952

Filed 10-3-07; 8:45 am]

Billing code 4710-10-P